DEPARTMENT OF COMMERCE

Foreign-Trade Zones Board

[B-45-2022]

Foreign-Trade Zone (FTZ) 134—Chattanooga, Tennessee; Authorization of Production Activity; Volkswagen Group of America—Chattanooga Operations, LLC (Passenger Motor Vehicles); Chattanooga, Tennessee

On September 26, 2022, Volkswagen Group of America—Chattanooga Operations, LLC submitted a notification of proposed production activity to the FTZ Board for its facility within FTZ 134, in Chattanooga, Tennessee.

The notification was processed in accordance with the regulations of the FTZ Board (15 CFR part 400), including notice in the Federal Register inviting public comment (87 FR 59395-59396, September 30, 2022). On January 24, 2023, the applicant was notified of the FTZ Board's decision that no further review of the activity is warranted at this time. The production activity described in the notification was authorized, subject to the FTZ Act and the FTZ Board's regulations, including Section 400.14.

Dated: January 24, 2023.
Elizabeth Whiteman,
Acting Executive Secretary.

[FR Doc. 2023-01782 Filed 1-27-23; 8:45 am]

BILLING CODE 3510-DS-P